Title 3—

The President

Proclamation 8302 of October 3, 2008

Fire Prevention Week, 2008

By the President of the United States of America

A Proclamation

Fire Prevention Week is an opportunity to call attention to the importance of fire safety, especially in the home, and to honor our Nation's firefighters for their heroism.

Americans can help reduce home fires by taking simple steps such as regularly inspecting furnaces and fireplaces, keeping space heaters at least 3 feet from flammable materials, and checking the condition of electrical cords. Making sure that smoke alarms and fire extinguishers work can also help minimize the impact of home and building fires. I encourage all Americans to remember this year's theme—“It’s Fire Prevention Week: Prevent Home Fires!”—and to check their homes for fire hazards to help prevent disasters.

Across our Nation, firefighters put themselves at risk to protect our communities, and their selfless dedication has saved countless lives. America's Bravest hold a cherished place in our hearts, and we honor those who have paid the ultimate price to protect citizens in harm's way. The sacrifice of these men and women is an inspiration to all and epitomizes the true meaning of heroism.

NOW, THEREFORE, I, GEORGE W. BUSH, President of the United States of America, by virtue of the authority vested in me by the Constitution and laws of the United States, do hereby proclaim October 5 through October 11, 2008, as Fire Prevention Week. On Sunday, October 5, 2008, in accordance with Public Law 107-51, the flag of the United States will be flown at half staff on all Federal office buildings in honor of the National Fallen Firefighters Memorial Service. I call on all Americans to participate in this observance through appropriate programs and activities and by renewing their efforts to prevent fires and their tragic consequences.

IN WITNESS WHEREOF, I have hereunto set my hand this third day of October, in the year of our Lord two thousand eight, and of the Independence of the United States of America the two hundred and thirty-third.

[FR Doc. E8-24016

Filed 10-7-08; 8:45 am]

Billing code 3195-W9-P